DEPARTMENT OF DEFENSE

Department of the Army

Availability for Non-Exclusive, Exclusive, or Partially Exclusive Licensing of U.S. Patent Concerning Fish Hatching Method and Apparatus

AGENCY: Department of the Army, DoD.

ACTION: Notice.

SUMMARY: In accordance with 37 CFR 404.6 and 404.7, announcement is made of the availability for licensing of U.S. Patent No. 7,094,417 entitled “Fish Hatching Method and Apparatus,” issued August 22, 2006; and U.S. Patent Application No. 11/340,757 entitled, “Fish Hatching Method and Apparatus,” filed January 27, 2006, which is a divisional of U.S. Patent No. 7,094,417. Foreign rights are also available (PCT/US01/25657). The United States Government, as represented by the Secretary of the Army, has rights in this invention.

ADDRESSES: Commander, U.S. Army Medical Research and Materiel Command, ATTN: Command Judge Advocate, MCMR-ZA-J, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The invention is a method and kit for conducting a rapid toxicity test. Methods and kits according to the invention include an animal or plant species in diapause.

Brenda S. Bowen,
Army Federal Register Liaison Officer.

[FR Doc. E8-15323 Filed 7-3-08; 8:45 am]

BILLING CODE 3710-08-P